OFFICE OF THE UNITED STATES TRADE REPRESENTATIVE

Reallocation of Unused Fiscal Year 2024 WTO Tariff-Rate Quota Volume for Raw Cane Sugar

AGENCY: Office of the United States Trade Representative.

ACTION: Notice.

SUMMARY: The Office of the United States Trade Representative (USTR) is providing notice of country-by-country reallocations of the fiscal year (FY) 2024 in-quota quantity of the World Trade Organization (WTO) tariff-rate quota (TRQ) for imported raw cane sugar.

DATES: This notice is applicable on November 30, 2023.

FOR FURTHER INFORMATION CONTACT: Erin Nicholson, Office of Agricultural Affairs, at 202-395-9419 or erin.h.nicholson@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On July 5, 2023, U.S. Department of Agriculture established the FY2024 TRQ for imported raw cane sugar at the minimum quantity to which the United States is committed pursuant to the WTO Uruguay Round Agreements (1,117,195 metric tons raw value (MTRV) conversion factor: 1 metric ton = 1.10231125 short tons). On July 19, 2023, USTR provided notice of country-by-country allocations of the FY2024 in-quota quantity of the WTO TRQ for imported raw cane sugar. See 88 FR 46363. Based on consultation with quota holders, the U.S. Trade Representative has determined to reallocate 223,740 MTRV of the original TRQ quantity from those countries that have stated they do not plan to fill their FY2024 allocated raw cane sugar quantities. The U.S. Trade Representative is allocating the 223,740 MTRV to the following countries in the amounts specified below:

Country | FY2024 raw sugar unused reallocation (MTRV)
Argentina | 15,592
Australia | 30,098
Belize | 3,989
Bolivia | 2,901
Brazil | 52,581
Colombia | 8,703
Costa Rica | 5,439
Ecuador | 3,989
El Salvador | 9,428
Eswatini (Swaziland) | 5,802
Guatemala | 17,406
Guyana | 4,352
Honduras | 3,626
Jamaica | 3,989
Malawi | 3,626
Mauritius | 4,352
Mozambique | 4,714
Panama | 10,516
Peru | 14,868
South Africa | 8,340
Thailand | 5,077
Zimbabwe | 4,352

The allocations of the raw cane sugar WTO TRQ to countries that are net importers of sugar are conditioned on receipt of the appropriate verifications of origin. Certificates for quota eligibility must accompany imports from any country for which an allocation has been provided.

Douglas McKalip,
Chief Agricultural Negotiator, Office of the United States Trade Representative.

[FR Doc. 2023-26298 Filed 11-29-23; 8:45 am]

BILLING CODE 3390-F4-P